FARM CREDIT ADMINISTRATION

12 CFR Parts 611, 612, 613, 614, and 615

RIN 3052-AC15

Organization; Standards of Conduct and Referral of Known or Suspected Criminal Violations; Eligibility and Scope of Financing; Loan Policies and Operations; Funding and Fiscal Affairs, Loan Policies and Operations, and Funding Operations; Regulatory Burden; Effective Date

AGENCY: Farm Credit Administration.

ACTION: Notice of effective date.

SUMMARY: The Farm Credit Administration (FCA) published a final rule under parts 611, 612, 613, 614, and 615 on November 8, 2006 (71 FR 65383). This final rule reduces regulatory burden on the Farm Credit System by repealing or revising regulations and correcting outdated and erroneous regulations. In accordance with 12 U.S.C. 2252, the effective date of the final rule is 30 days from the date of publication in the Federal Register during which either or both Houses of Congress are in session. Based on the records of the sessions of Congress, the effective date of the regulations is February 1, 2007.

EFFECTIVE DATES: The regulation amending 12 CFR parts 611, 612, 613, 614, and 615, published on November 8, 2006 (71 FR 65383) is effective February 1, 2007.

FOR FURTHER INFORMATION CONTACT: Jacqueline R. Melvin, Associate Policy Analyst, Office of Policy and Analysis, Farm Credit Administration, McLean, VA 22102-5090, (703) 883-4498, TTY (703) 883-4434; or Howard I. Rubin, Senior Counsel, Office of General Counsel, Farm Credit Administration, McLean, VA 22102-5090, (703) 883-4020, TTY (703) 883-4020.

(12 U.S.C. 2252(a)(9) and (10))

Dated: February 1, 2007.
Roland E. Smith,
Secretary, Farm Credit Administration Board.

[FR Doc. E7-1950 Filed 2-6-07; 8:45 am]

BILLING CODE 6705-01-P